UNIFIED CARRIER REGISTRATION PLAN

Sunshine Act Meeting Notice; Unified Carrier Registration Plan Board Subcommittee Meeting

TIME AND DATE: May 20, 2021, 12 p.m. to 2 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 974 4919 4997, to listen and participate in this meeting. The website to participate via Zoom Meeting and Screenshare is https://kellen.zoom.us/j/97449194997.

STATUS: This meeting will be open to the public.

MATTERS TO BE CONSIDERED: The Unified Carrier Registration Plan Finance Subcommittee (the “Subcommittee”) will continue its work in developing and implementing the Unified Carrier Registration Plan and Agreement. The subject matter of this meeting will include:

Proposed Agenda

I. Call to Order—Subcommittee Chair

The Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—Subcommittee Chair

For Discussion and Possible Subcommittee Action

The Agenda will be reviewed, and the Subcommittee will consider adoption.

Ground Rules

➢ Subcommittee action only to be taken in designated areas on agenda.

IV. Review and Approval of Subcommittee Minutes from the March 25, 2021 Meeting—Subcommittee Chair

For Discussion and Possible Subcommittee Action

Draft minutes from the March 25, 2021 Subcommittee meeting via teleconference will be reviewed. The Subcommittee will consider action to approve.

V. MCS-150 Retreat Audit Program—Subcommittee Chair and DSL Transportation

The Subcommittee Chair and DSL Transportation will lead a discussion regarding the MCS-150 retreat audit program provided by the UCR Plan and the progress made with participating states. States may opt into the program. States that opt in will remain engaged in the audit process but may have a lesser burden of having to attend to unresponsive/unproductive retreat audits.

VI. Non-Participating States Unregistered Solicitation Campaign—Subcommittee Chair and DSL Transportation

The Subcommittee Chair and DSL Transportation will lead a discussion regarding the non-participating states unregistered solicitation campaign and the option to hire a contractor to perform this service.

VII. 2020 State UCR Audit Reports—Subcommittee Chair

The Subcommittee Chair will lead a discussion regarding the states upcoming obligations regarding 2020 audit reports and issue a reminder that the 2020 UCR state annual audit reports have been subject to UCR review starting on April 1, 2021.

VIII. 2020 and 2021 State UCR Registration Percentages—Subcommittee Chair and Vice Chair

The Subcommittee Chair and Vice Chair will lead a discussion regarding the national and states registration percentages and ways to increase the percentages.

IX. 2021 Inspection Audits—Subcommittee Chair and Vice Chair

For Discussion and Possible Subcommittee Action

The Subcommittee Chair and Vice Chair will lead a discussion regarding possibly requiring participating states to audit 100% of the motor carriers identified through roadside inspection. The Subcommittee may take action to recommend to the Board that participating states audit all unregistered motor carriers identified through roadside enforcement.

X. Review the Current Focused Anomaly Reviews (FARs) Audits Assigned to the States—Subcommittee Chair and Vice Chair

For Discussion and Possible Subcommittee Action

The Subcommittee Chair and Vice Chair will lead a discussion regarding the current number of FARs assigned to the states and consider options to increase the number of FARs assigned to the states. The Subcommittee may take action to recommend to the Board an increase in the number of FARs required to be processed annually by each participating state.

XI. Definition of Commercial Motor Vehicle for UCR Purposes—Subcommittee Chair and UCR Executive Director

For Discussion and Possible Subcommittee Action

The Subcommittee Chair and the UCR Executive Director will provide potential adjustments to the definition of a “Commercial Motor Vehicle” for UCR purposes. The adjustments are clarifying language that retains the definition as set forth by reference in the UCR Act (49 U.S. Code 31101.) The Subcommittee may take action to adopt the clarifying language and recommend to the Board that it be used in the Handbook.

XII. State Compliance Reviews—UCR Depository Manager

The UCR Depository Manager will provide an update on plans to conduct state compliance reviews and will remind states that have been selected for reviews in 2021.

XIII. UCR Depository Audit for 2019—UCR Depository Manager

The UCR Depository Manager will provide an update on the financial statement audit of the Depository for each of the years ended December 31, 2019 and December 31, 2018.

XIV. Other Business—Subcommittee Chair

The Subcommittee Chair will call for any other items Subcommittee members would like to discuss.

XV. Adjournment—Subcommittee Chair

The Subcommittee Chair will adjourn the meeting.

The agenda will be available no later than 5:00 p.m. Eastern time, May 12, 2021 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2021-10479 Filed 5-13-21; 4:15 pm]

BILLING CODE 4910-YL-P